CONSUMER PRODUCT SAFETY COMMISSION

Notification of Request for Extension of Approval of Information Collection Requirements—Procedures for Export of Noncomplying Products

AGENCY: Consumer Product Safety Commission.

ACTION: Notice.

SUMMARY: In the February 12, 2007 Federal Register (72 FR 6534), the Consumer Product Safety Commission (CPSC or Commission) published a notice in accordance with provisions of the Paperwork Reduction Act of 1995 (44 U.S.C. Chapter 35) to announce the agency's intention to seek an extension of approval of information collection requirements in regulations codified at 16 CFR part 1019, which establish procedures for export of noncomplying products. No comments were received. The Commission now announces that it is submitting to the Office of Management and Budget (OMB) a request for extension of approval of that collection of information.

These regulations implement provisions of the Consumer Product Safety Act, the Federal Hazardous Substances Act, and the Flammable Fabrics Act that require persons and firms to notify the Commission before exporting any product that fails to comply with an applicable standard or regulation enforced under provisions of those laws. The Commission is required by law to transmit the information relating to the proposed exportation to the government of the country of intended destination. OMB previously approved the collection of information under control number 3041-0003. OMB's most recent extension of approval will expire on August 31, 2007.

Additional Information About the Request for Extension of Approval of Information Collection Requirements

Agency address: Consumer Product Safety Commission, 4330 East West Highway, Bethesda, MD 20814.

Title of information collection: Procedures for export of noncomplying products, 16 CFR part 1019.

Type of request: Extension of approval.

Frequency of collection: Varies depending upon volume of noncomplying goods exported.

General description of respondents: Exporters of products that fail to comply with standards or regulations enforced under provisions of the Consumer Product Safety Act, the Federal Hazardous Substances Act, or the Flammable Fabrics Act.

Estimated Number of respondents: 35 firms per year.

Estimated number of notifications for all respondents: 75 per year.

Estimated number of hours per response: 1.

Estimated number of hours for all respondents: 75 per year.

Estimated cost of collection for all respondents: $3,400.

Comments: Comments on this request for extension of approval of information collection requirements should be submitted by July 5, 2007 to the (1) Office of Information and Regulatory Affairs, Attn: OMB Desk Officer for CPSC, Office of Management and Budget, Washington DC 20503; telephone: (202) 395-7340, and (2) to the Office of the Secretary by e-mail at cpsc-os@cpsc.gov, or mailed to the Office of the Secretary, Consumer Product Safety Commission, 4330 East West Highway, Bethesda, MD 20814. Comments may also be sent via facsimile at (301) 504-0127.

Copies of this request for approval of information collection requirements and supporting documentation are available from Linda Glatz, Division of Policy and Planning, Office of Information Technology and Technology Services, Consumer Product Safety Commission, 4330 East West Highway, Bethesda, MD 20814; telephone: (301) 504-7671 or by e-mail to lglatz@cpsc.gov.

Dated: May 29, 2007.
Todd A. Stevenson,
Secretary, Consumer Product Safety Commission.

[FR Doc. E7-10619 Filed 6-1-07; 8:45 am]

BILLING CODE 6355-01-P